DEPARTMENT OF STATE

[Public Notice 6800]

Determination Pursuant to the Department of State, Foreign Operations, and Related Programs Appropriations Act, 2009, Related to the Provision of Military Assistance in Support of a Southern Sudan Security Sector Transformation Program

Pursuant to the authority vested in me by the laws of the United States, including Section 7070(b)(5) of the Department of State, Foreign Operations, and Related Programs Appropriations Act, 2009 (Div. H, Pub. L. 111-8), and Delegation of Authority 245-1, I hereby determine that the provision to the Government of Southern Sudan of non-lethal military assistance, military education and training, and defense services controlled under the International Traffic in Arms Regulations is in the national interest of the United States, and that such assistance may be provided pursuant to section 7070(b)(5).

This determination shall be transmitted to the Congress and published in the Federal Register.

Dated: October 15, 2009.
Jacob J. Lew,
Deputy Secretary of State.

[FR Doc. E9-26432 Filed 11-2-09; 8:45 am]

BILLING CODE 4710-26-P